FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202)-523-5793 or tradeanalysis@fmc.gov.

Agreement No.: 011545-002.

Title: Agreement Between CSAV and Mitsui.

Parties: Compania Sud Americana de Vapores, S.A. (CSAV) and Mitsui O.S.K. Lines, Ltd.

Filing Party: Walter H. Lion, Esq.; McLaughlin & Stern, LLP; 260 Madison Avenue; New York, NY 10016.

Synopsis: The amendment deletes the pricing and pooling authorities and makes conforming technical changes.

Agreement No.: 012092-001.

Title: MOL/”K” Line Space Charter and Sailing Agreement.

Parties: Kawasaki Kisen Kaisha, Ltd. and Mitsui O.S.K. Lines, Ltd.

Filing Parties: John P. Meade, Esq.; Vice President-Law; “K” Line America, Inc.; 6009 Bethlehem Road; Preston, MD, 21655.

Synopsis: The amendment expands the geographic scope to include South East Asia ports, West Coast Canadian ports and U.S. Atlantic Coast ports. It also modifies the number of vessels and TEU capacities that may be deployed under the agreement.

Agreement No.: 012095.

Title: Hybur Ltd./Seafreight Space Charter Agreement.

Parties: Hybur Ltd. and Seafreight Line, Ltd.

Filing Parties: Alfred McNab; General Manager and Secretary; Hyde Shipping Corporation.; 10025 N.W. 116th Way, Suite 2; Medley, FL 33178.

Synopsis: The agreement authorizes Seafreight to charter space from Hybur Ltd. between the ports of Port Everglades, FL and George Town, Grand Cayman.

By Order of the Federal Maritime Commission.
Dated: April 23, 2010.
Karen V. Gregory,
Secretary.

[FR Doc. 2010-9856 Filed 4-27-10; 8:45 am]

BILLING CODE 6730-01-P